Title 3—

The President

Proclamation 8623 of January 14, 2011

Religious Freedom Day, 2011

By the President of the United States of America

A Proclamation

Our Nation was founded on a shared commitment to the values of justice, freedom, and equality. On Religious Freedom Day, we commemorate Virginia’s 1786 Statute for Religious Freedom, in which Thomas Jefferson wrote that “all men shall be free to profess, and by argument to maintain, their opinion in matters of religion.” The fundamental principle of religious freedom—guarded by our Founders and enshrined in our Constitution’s First Amendment—continues to protect rich faiths flourishing within our borders.

The writ of the Founding Fathers has upheld the ability of Americans to worship and practice religion as they choose, including the right to believe in no religion at all. However, these liberties are not self-sustaining, and require a stalwart commitment by each generation to preserve and apply them. Throughout our Nation’s history, our founding ideal of religious freedom has served as an example to the world. Though our Nation has sometimes fallen short of the weighty task of ensuring freedom of religious expression and practice, we have remained a Nation in which people of different faiths coexist with mutual respect and equality under the law. America’s unshakeable commitment to religious freedom binds us together as a people, and the strength of our values underpins a country that is tolerant, just, and strong.

My Administration continues to defend the cause of religious freedom in the United States and around the world. At home, we vigorously protect the civil rights of Americans, regardless of their religious beliefs. Across the globe, we also seek to uphold this human right and to foster tolerance and peace with those whose beliefs differ from our own. We bear witness to those who are persecuted or attacked because of their faith. We condemn the attacks made in recent months against Christians in Iraq and Egypt, along with attacks against people of all backgrounds and beliefs. The United States stands with those who advocate for free religious expression and works to protect the rights of all people to follow their conscience, free from persecution and discrimination.

On Religious Freedom Day, let us reflect on the principle of religious freedom that has guided our Nation forward, and recommit to upholding this universal human right both at home and around the world.

NOW, THEREFORE, I, BARACK OBAMA, President of the United States of America, by virtue of the authority vested in me by the Constitution and the laws of the United States, do hereby proclaim January 16, 2011, as Religious Freedom Day. I call on all Americans to commemorate this day with events and activities that teach us about this critical foundation of our Nation’s liberty, and to show us how we can protect it for future generations here and around the world.

IN WITNESS WHEREOF, I have hereunto set my hand this fourteenth day of January, in the year of our Lord two thousand eleven, and of the Independence of the United States of America the two hundred and thirty-fifth.

[FR Doc. 2011-1304

Filed 1-19-11; 11:15 am]

Billing code 3195-W1-P